DEPARTMENT OF TRANSPORTATION

Federal Aviation Administration

[Docket No. FAA-2001-8872]

Reciprocal Acceptance of Repair Design Approvals Between the Federal Aviation Administration and Transport Canada Civil Aviation

AGENCY: Federal Aviation Administration, (DOT).

ACTION: Notice of policy, request for comments.

SUMMARY: This notice announces an FAA general statement of policy applicable to the acceptability of repair design data approved by Transport Canada Civil Aviation (TCCA) in accordance with the provisions of a Memorandum of Understanding (MOU) agreed to by TCCA and the FAA on May 6, 1998. The MOU was signed pursuant to the Schedule of Implementation Procedures of the August 31, 1984 U.S./Canada Bilateral Airworthiness Agreement. This document advises the public that certain Canadian repair design approvals for U.S. and Canadian products are considered to be technical data approved by the Administrator. Such data therefore may be used for the purpose of performing a repair on a U.S.-registered aircraft or on an aeronautical product intended for installation on a U.S.-registered aircraft.

DATES: Comments must be received on or before March 12, 2001.

ADDRESSES: Address your comments to the Docket Management System, U.S. Department of Transportation, Room Plaza 401, 400 Seventh Street, SW., Washington, DC 20590-0001. You must identify the docket number FAA-2000- at the beginning of your comments, and you should submit two copies of your comments. If you wish to receive confirmation that FAA received your comments, include a self-addressed, stamped postcard.

You may also submit comments through the Internet to http://dms.dot.gov. You may review the public docket containing comments to this notice of policy in person in the Dockets Office between 9:00 a.m. and 5:00 p.m., Monday through Friday, except Federal holidays. The Dockets Office is on the plaza level of the NASSIF Building at the Department of Transportation at the above address. Also, you may review public dockets on the Internet at http://dms.dot.gov.

FOR FURTHER INFORMATION CONTACT: Victor Powell, Certification Procedure Branch, AIR-110, Aircraft Engineering Division, Aircraft Certification Service, Federal Aviation Administration, 800 Independence Avenue, SW., Washington, DC 20591, Telephone: (202) 267-9580, fax (202) 267-5340, e-mail victor.powell@faa.gov.

SUPPLEMENTARY INFORMATION:

Comments Invited

Interested persons are invited to submit written comments, data, views, or arguments regarding this policy. Comments should identify the regulatory docket or notice number and should be submitted in triplicate to the Rules Docket address specified above. All comments received and a report summarizing any substantive public contact with FAA personnel on this policy will be filed in the docket. The docket is available for public inspection both before and after the closing date for receiving comments. The Administrator will consider comments made on this policy on or before the closing date for comments, and the policy may be changed in light of the comments received.

The FAA will acknowledge receipt of comments if commenters include a self-addressed, stamped postcard with the comments. The postcards should be marked “Comments to Docket No. FAA-2000- .” When the comments are received by the FAA, the postcards will be dated, time stamped, and returned to the commenters.

Availability of Documents

You can get an electronic copy of the current bilateral agreement between the United States and Canada using the Internet through FAA's web page at http://www.faa.gov/avr/air/air4/Baalst.htm.

You can get a copy of the May 6, 1998 MOU for the Design Approval of Aeronautical Product Repairs by submitting a request to the person listed under FOR FURTHER INFORMATION CONTACT.

Background

On May 6, 1998 representatives of the FAA and TCCA signed an MOU which set forth procedures for implementing the “design approval of repairs” provisions of the BAA between the United States and Canada signed on August 31, 1984. The MOU was signed pursuant to Chapter 4, Maintenance Alteration or Modification of Aeronautical Products, and Chapter 7, Special Arrangements of the BAA Schedule of Implementation Procedures. The FAA and TCCA signed the MOU for the purpose of avoiding duplication of design approvals by giving maximum permissible credit for repair design approvals made by each authority.

In the MOU the FAA and TCCA agree to cooperate in accepting each other's design approval of repairs. The authorities also agree that certain data generated in the design approval of repairs and found to comply with the regulations of both authorities is approved by both, without any other required actions. The MOU continues to remain in force under the provisions of the Bilateral Aviation Safety Agreement signed between the United States and Canada on June 12, 2000.

Statement of Policy

U.S. Acceptance of Canadian Repair Design Data

As specified in this statement of policy, certain Canadian repair design approvals are considered to be technical data approved by the Administrator for the purpose of performing a repair on a U.S.-registered aircraft or on an aeronautical product intended for installation on a U.S.-registered aircraft.

For U.S. State of Design products, repair design approvals issued directly by TCCA are considered technical data approved by the Administrator. Repair design approvals issued solely by a TCCA delegate for U.S. State of Design products are not considered technical data approved by the Administrator. TCCA delegate approvals for U.S. State of Design products must have the specific approval of the authority or direct FAA or FAA designee approval before being considered to be technical data approved by the Administrator.

Repair design approvals issued by either the TCCA or an appropriately authorized TCCA delegate for Canadian State of Design products are considered to be technical data approved by the Administrator. TCCA or TCCA delegate repair design approvals are not considered technical data approved by the Administrator for products where the United States or Canada is not the State of Design (a “third country” product). Direct FAA or FAA designee review and approval is required for repair design data for “third country” products.

For repairs to engines and propellers the State of Design of the engine or propeller, not the State of Design of the aircraft that the engine or propeller is installed on, determines whether Canadian repair design data is considered approved. For components, the State of Design for the type certificated product (i.e. the aircraft, aircraft engine, or propeller) on which the component is approved (or the State of Design for the applicable Supplemental Type Certificate) governs the procedures used to obtain approval of the repair design data, not the state of design of the repaired (non-TC'd) product or component itself.

Data approved by TCCA delegates for minor repairs is acceptable to the FAA for accomplishment of minor repairs on any U.S.-registered aircraft or any other aeronautical product intended for installation on a U.S.-registered aircraft.

This policy does not limit the FAA's right to review any data approved by TCCA or a TCCA delegate that is used to repair a U.S.-registered aircraft or an aeronautical product intended for installation on a U.S. registered aircraft.

Limitations

This statement of policy applies only to the acceptance of repair design data. It does not address manufacturing/production, approval for return to service, use of FAA Form 337, installation acceptability, or Export Airworthiness approvals. It does not apply to repair design data developed to perform: repairs on aeronautical products for which the State of Design is a country other than Canada or the United States; repairs approved in accordance with FAA “field approval” procedures; and repairs performed under SFAR 36 authority for aeronautical products where the United States is not the State of Design.

Elizabeth Erickson,
Director, Aircraft Certification Service.

[FR Doc. 01-3397 Filed 2-8-01; 8:45 am]

BILLING CODE 4910-13-M